DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 16, 2016.

FOR FURTHER INFORMATION CONTACT: Ms. Anna Millikan, IRSAC Program Manager, Office of National Public Liaison, CL:NPL:P, Room 7559, 1111 Constitution Avenue NW, Washington, DC 20224. Telephone: 202-317-6851 (not a toll-free number). Email address: PublicLiaison@irs.gov.

SUPPLEMENTARY INFORMATION: Notice is hereby given pursuant to section 10(a) (2) of the Federal Advisory Committee Act, 5 U.S.C. App. (1988), a public meeting of the IRSAC will be held on Wednesday, November 16, 2016, from 9:20 a.m. to 1:15 p.m. at the Melrose Georgetown Hotel, 2430 Pennsylvania Avenue NW., Potomac III Ballroom, Washington, DC 20037. Issues to be discussed include, but are not limited to: IRS Should Evaluate the Effects of Penalties on Voluntary Compliance; Risk Assessment; Promoting Confidentiality of Treaty-Exchanged Information; Fraud Prevention through Individual Taxpayer and Business Master File (BMF) Authentication; Enhancement of IRS2Go Mobile Application and Online Accounts; Field and Campus Exam Letters and Attachments; Statutory Authority of IRS to Regulate Tax Practice; and Revisions and Updates to Circular 230. Last-minute agenda changes may preclude advanced notice. The meeting room accommodates approximately 70 people; this number includes IRSAC members and Internal Revenue Service officials. Due to limited seating, please call Anna Millikan at 202-317-6851 to confirm your attendance. Attendees are encouraged to arrive at least 30 minutes before the meeting begins. Should you wish the IRSAC to consider a written statement, please write to Internal Revenue Service, Office of National Public Liaison, CL:NPL, Room 7559, 1111 Constitution Avenue NW., Washington, DC 20224 or email PublicLiaison@irs.gov.

Dated: October 20, 2016.
Candice Cromling,
Director, National Public Liaison.

[FR Doc. 2016-25946 Filed 10-26-16; 8:45 am]

BILLING CODE 4830-01-P